DEPARTMENT OF HOUSING AND URBAN DEVELOPMENT

[Docket No. FR-5681-N-34]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Office of Enterprise Support Programs, Program Support Center, HHS, Room 12-07, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Agriculture: Ms. Debra Kerr, Department of Agriculture, Reporters Building, 300 7th Street SW., Room 300, Washington, DC 20024, (202) 720-8873; Navy: Mr. Steve Matteo, Department of the Navy, Asset Management Division, Naval Facilities Engineering Command, Washington Navy Yard, 1330 Patterson Ave. SW., Suite 1000, Washington, DC 20374; (202) 685-9426; (These are not toll-free numbers).

Dated: August 15, 2013.
Mark Johnston,
Deputy Assistant Secretary for Special Needs.

TITLE V, FEDERAL SURPLUS PROPERTY PROGRAM FEDERAL REGISTER REPORT FOR 08/23/2013

Suitable/Available Properties

Building

California

Subase, Naval Base Point Loma

200 Catalina Blvd.

San Diego CA 92106

Landholding Agency: Navy

Property Number: 77201330014

Status: Excess

Comments: Facility w/in controlled perimeter of a DoD installation; public access denied & no alter method to gain access w/out compromising nat'l security.

Oregon

Crescent Office-East Modular

Crescent Admin Site

Crescent OR

Landholding Agency: Agriculture

Property Number: 15201330016

Status: Excess

Comments: 1,202 sf. 31 yrs.-old; poor conditions; existing federal need

Crescent Office, FS ID 2005

Crescent Admin Site

Crescent OR

Landholding Agency: Agriculture

Property Number: 15201330018

Status: Excess

Comments: 2,400 sf. 56 yrs.-old; poor conditions; existing federal need

Crescent Office-BM Modular, FS

Crescent Admin Site

Crescent OR

Landholding Agency: Agriculture

Property Number: 15201330019

Status: Excess

Comments: 3,608 sf.; 27 yrs.-old; poor conditions; existing federal need

Crescent Wellness Building, FS

Crescent Admin Site

Crescent OR

Landholding Agency: Agriculture

Property Number: 15201330020

Status: Excess

Comments: 640 sf. fitness ctr. 78 yrs.-old; poor conditions; existing federal need

Crescent RS Bunkhouse, FS ID

Crescent Admin Site

Crescent OR

Landholding Agency: Agriculture

Property Number: 15201330021

Status: Excess

Comments: 1,056 sf. fair conditions; 66 yrs.-old; poor conditions; existing federal need

Crescent Fire Bunkhouse, FS ID

Crescent Admin Site

Crescent OR

Landholding Agency: Agriculture

Property Number: 15201330022

Status: Excess

Comments: 1,216 sf. poor conditions; 12+months vacant; bunkhouse; existing federal need

Crescent Paint Storage, FS ID

Crescent Admin Site

Crescent OR

Landholding Agency: Agriculture

Property Number: 15201330023

Status: Excess

Comments: 530 sf.; shed, 51 yrs. old, poor conditions; existing federal need.

Crescent Timber Storage, FS ID

Crescent Admin Site

Crescent OR

Landholding Agency: Agriculture

Property Number: 15201330024

Status: Excess

Comments: 170 sf.; shed; 63 yrs. old. poor conditions; existing Federal need

Crescent Admin Garage, FS ID

Crescent Admin Site

Crescent OR

Landholding Agency: Agriculture

Property Number: 15201330025

Status: Excess

Comments: 336 sf.; 60 yrs.-old, good conditions; existing Federal need.

Crescent Office-South Modular

Crescent Admin Site

Crescent OR

Landholding Agency: Agriculture

Property Number: 15201330027

Status: Excess

Comments: 2,020 sf.; 18 yrs.-old, poor conditions; existing Federal need.

Maryland

Building 415; Hobby Shop

22049 Fortin Rd.

Patuxent River MD

Landholding Agency: Navy

Property Number: 77201330016

Status: Unutilized

Comments: located on military installation w/secured entry; public access denied and no alternative method to gain access w/out compromising nat'l security

Reasons: Secured Area

Land

California

Land

Naval Base

San Diego CA

Landholding Agency: Navy

Property Number: 77201330015

Status: Excess

Comments: DoD personnel only; public access denied & no alternative method to gain access w/out compromising nat'l security

Reasons: Secured Area

[FR Doc. 2013-20287 Filed 8-22-13; 8:45 am]

BILLING CODE 4210-67-P